ENVIRONMENTAL PROTECTION AGENCY

40 CFR Part 52

[ME-003-01-7004a; A-1-FRL-6572-8]

Approval and Promulgation of Air Quality Implementation Plans; Maine; RACT for VOC Sources

AGENCY: Environmental Protection Agency (EPA).

ACTION: Direct final rule.

SUMMARY: EPA is approving several State Implementation Plan (SIP) revisions submitted by the State of Maine. EPA is also issuing a limited approval of one regulation submitted as a SIP revision by the State of Maine. These SIP revisions establish requirements for certain facilities which emit volatile organic compounds (VOCs). The intended effect of this action is to approve these revisions into the Maine SIP. This action is being taken in accordance with the Clean Air Act (CAA or Act).

DATES: This direct final rule is effective on June 19, 2000 without further notice, unless EPA receives adverse comment by May 18, 2000. If adverse comment is received, EPA will publish a timely withdrawal of the direct final rule in the Federal Register and inform the public that the rule will not take effect.

ADDRESSES: Comments may be mailed to David Conroy, Unit Manager, Air Quality Planning Unit (mail code CAQ), U.S. Environmental Protection Agency, Region I, One Congress Street, Boston, MA 02114-2023. Copies of the documents relevant to this action are available for public inspection during normal business hours, by appointment at the Office Ecosystem Protection, U.S. Environmental Protection Agency, Region I, One Congress Street, 11th floor, Boston, MA and the Bureau of Air Quality Control, Department of Environmental Protection, 71 Hospital Street, Augusta, ME 04333.

FOR FURTHER INFORMATION CONTACT: Anne E. Arnold, (617) 918-1047, arnold.anne@epa.gov.

SUPPLEMENTARY INFORMATION: Today's action addresses several State Implementation Plan (SIP) revisions submitted by the Maine Department of Environmental Protection (DEP). These SIP submittals contain reasonably available control technology (RACT) requirements for certain VOC sources.

On November 3, 1993, EPA received a formal State Implementation Plan (SIP) submittal from the Maine Department of Environmental Protection (DEP) containing Chapter 134 “Reasonably Available Control Technology for Facilities that Emit Volatile Organic Compounds.” In addition, on April 28, 1995, Maine DEP submitted a revised version of this rule to EPA as a SIP revision in order to address several issues EPA had identified with the previous submittal. Furthermore, Maine DEP also subsequently submitted source specific SIP revisions for several VOC sources on January 10, 1996, July 1, 1997, October 9, 1997, November 14, 1997, and December 10, 1997.

Background

On November 15, 1990, amendments to the 1977 Clean Air Act were enacted. Public Law 101-549, 104 Stat. 2399, codified at 42 U.S.C. 7401-7671q. In Maine, pursuant to the Clean Air Act Amendments (CAAA) of 1990, the Portland area (York, Sagadahoc, and Cumberland counties), the Lewiston-Auburn area (Androscoggin and Kennebec counties), and the Knox and Lincoln Counties area were designated as moderate ozone nonattainment areas and the Hancock and Waldo counties area was designated as a marginal ozone nonattainment area. See 56 FR 56694 (Nov. 6, 1991).

Section 182(b)(2) of the amended Act requires states to adopt RACT rules for all areas designated nonattainment for ozone and classified as moderate or above. There are three parts to the section 182(b)(2) RACT requirement: (1) RACT for sources covered by an existing Control Technique Guideline (CTG)—i.e., a CTG issued prior to the enactment of the CAAA of 1990; (2) RACT for sources covered by a post-enactment CTG; and (3) all major sources not covered by a CTG, i.e., non-CTG sources. As previously mentioned, three areas in Maine were designated moderate ozone nonattainment areas. These areas were thus subject to the section 182(b)(2) RACT requirement.

Furthermore, the State of Maine is located in the Northeast Ozone Transport Region (OTR). The entire State is, therefore, subject to section 184(b) of the amended CAA. Section 184(b) requires that RACT be implemented in the entire state for all VOC sources covered by a CTG issued before or after the enactment of the CAAA of 1990 and for all major VOC sources (defined as 50 tons per year for sources in the OTR).

A CTG is a document issued by EPA which establishes a presumptive norm for RACT for a specific VOC source category. Under the pre-amended CAA, EPA issued CTG documents for 29 categories of VOC sources. Maine has previously addressed all of EPA's pre-1990 CTGs and EPA has approved Maine's submittals for these source categories. See 57 FR 3946, 58 FR 15281, 59 FR 31154, and 60 FR 33730. Today's document addresses requirements adopted by Maine pursuant to the non-CTG and new (i.e., post-1990) CTG requirements of the CAA.

Section 183 of the amended CAA requires that EPA issue 13 new CTGs. Appendix E of the General Preamble of Title I (57 FR 18077) lists the categories for which EPA plans to issue new CTGs. On November 15, 1993, EPA issued a CTG for Synthetic Organic Chemical Manufacturing Industry (SOCMI) Distillation Operations and Reactor Processes. Also, on August 27, 1996, EPA issued a CTG for shipbuilding and repair operations and on May 26, 1996, EPA issued a CTG for wood furniture finishing operations. Furthermore, on March 27, 1998, EPA issued a CTG for aerospace coating operations. CTGs for the remaining Appendix E categories have not yet been issued.

EPA's Evaluation of Maine's Submittals

(A) New CTGs

In response to the CAA requirement to adopt RACT for all sources covered by a new CTG, on November 15, 1994, Maine submitted a negative declaration for the SOCMI Distillation and Reactors Processes CTG categories. Through the negative declaration, the State of Maine is asserting that there are no sources within the State that would be subject to a rule for these source categories. EPA is approving this negative declaration submittal as meeting the section 182(b)(2) and section 184(b) RACT requirements for these two source categories. However, if evidence is submitted by May 18, 2000 that there are existing sources within the State of Maine that, for purposes of meeting the RACT requirements, would be subject to a rule for these categories, if developed, such comments would be considered adverse and EPA would withdraw its approval action on the negative declarations.

EPA's shipbuilding CTG applies to shipbuilding and ship repair coating sources which are major VOC sources, i.e., those with the potential to emit 50 tons or more per year in Maine. On October 9, 1997, Maine submitted a SIP revision for Portsmouth Naval Shipyard. EPA has evaluated the license submitted for this facility and has found it to be approvable. Generally, the facility is required to meet the VOC coating limits recommended by EPA's shipbuilding CTG. The specific requirements imposed on Portsmouth Naval Shipyard and EPA's evaluation of these requirements are detailed in a memorandum dated March 17, 2000, entitled “Technical Support Document—Maine—RACT for VOC sources” (TSD). Copies of this document are available, upon request, from the EPA Regional Office listed in the ADDRESSES section of this document. In addition, the Bath Iron Works facility in Bath, Maine is also subject to EPA's shipbuilding CTG. Maine DEP has not yet addressed VOC RACT for this facility but will need to do so in order to fulfill the State's new CTG CAA obligations.

EPA's CTG for wood furniture finishing operations applies to facilities with the potential to emit 25 tons of VOC or more per year. EPA is aware of at least two facilities in Maine which may be covered by this CTG. They are Moosehead Manufacturing's Monson and Dover-Foxcroft plants. Maine needs to address these facilities, as well as any other facilities to which the wood furniture CTG may be applicable, in order to fulfill the State's new CTG CAA obligations.

EPA's CTG for aerospace coating operations applies to facilities with the potential to emit 25 tons of VOC or more per year. EPA is aware of at least one source in Maine, Pratt & Whitney, which may be covered by this CTG. Maine needs to address this facility, as well as any other facilities to which the aerospace CTG may be applicable, in order to fulfill the state's new CTG CAA obligations.

(B) Chapter 134 Regulation

Maine's Chapter 134 regulation requires major non-CTG VOC sources to implement RACT. The rule is based on EPA Region I's working draft rule entitled “Reasonably Available Control Technology for Facilities that Emit Volatile Organic Compounds” and EPA's national “Model Volatile Organic Compound Rules for Reasonably Available Control Technology” (June 1992).

Maine's Chapter 134 is generally consistent with EPA guidance, however, there is one outstanding issue associated with this regulation. This issue involves the generic nature of the rule and is further discussed below. In addition, there are two other aspects of the rule which are somewhat unique to Maine's regulation. These issues are also further discussed below.

(1) Outstanding Issue: Generic Nature of the Regulation

Maine's Chapter 134 establishes three RACT options. The first two options are methods of achieving RACT by either: (a) operating a system to capture and control VOC emissions such that total VOC emissions do not exceed 15% of the uncontrolled daily VOC emissions; or (b) reducing VOC use and emissions such that total VOC emissions do not exceed 20% of the total daily VOC emissions in calendar year 1990 (calculated on either a mass of VOC per mass of solids applied basis for surface coating sources or a mass of VOC per unit of production basis). The third method, stated in section 3(A)(3) of the rule, is to submit a variety of strategies as an alternative compliance plan to reduce VOC emissions.

Since the first two options of Chapter 134 define presumptive norms for RACT, that portion of the regulation meets the requirements of section 182 of the CAA. However, since the third option describes a process by which RACT can be defined but does not define RACT as required by the CAA, this portion of the rule is not approvable. Maine must define explicitly, and have approved by EPA, RACT for all of those sources which do not conform to the presumptive RACT options outlined in the regulation.

Maine has submitted to EPA many, although not all, of the necessary single source SIP revisions. Specifically, SIP revisions have been submitted for all of the applicable sources in the following counties: York, Sagadahoc, Cumberland, Androscoggin, Kennebec, Knox, Lincoln, Hancock, Waldo, Aroostook, Franklin, Oxford, and Piscataquis. The sources for which non-CTG VOC RACT determinations have been submitted are discussed below in section (C). Maine must, however, submit, and EPA must approve, SIP revisions for all of the remaining sources which do not choose to conform to the presumptive RACT options outlined in the regulation in order for Chapter 134 to be approvable statewide. These sources are: GP Chip'n Saw and Mearl Corporation in Washington County, Irving Tanning in Somerset County, and Great Northern Paper's two facilities in Penobscot County.

(2) Other Aspects Unique to Maine's Rule

There are two other aspects of Chapter 134 which are unique to Maine's rule. These are the requirements for pulp and paper processes and the exemptions included in the rule. Section 3(A)(4) of Chapter 134 (Option D) specifically addresses VOC RACT requirements for pulp and paper processes. For example, Option D requires that emissions from the digester system, multiple effect evaporator systems, condensate stripper systems, smelt tanks, and lime kilns be controlled through incineration or wet scrubber systems in accordance with Maine's Chapter 124 “Total Reduced Sulfur Control from Kraft Pulp Mills.” Chapter 134 also includes exemptions for specific pieces of equipment. For example, the rule contains an exemption for kraft recovery boilers. EPA has determined that the Chapter 134 requirements for pulp and paper processes and the exemptions included in the rule are approvable and that the rule is generally consistent with EPA guidance with the exception of the outstanding issue (i.e., the generic nature of the rule) discussed above. The specific requirements of Chapter 134 and EPA's evaluation of these requirements are detailed in the TSD. Copies of this document are available, upon request, from the EPA Regional Office listed in the ADDRESSES section of this document.

(C) Non-CTG RACT Determinations

On January 10, 1996, Maine submitted licenses for the following pulp and paper facilities: SD Warren Paper Company (Westbrook and Skowhegan), Lincoln Pulp and Paper, James River, International Paper, Boise Cascade, and Georgia Pacific. Also, on July 1, 1997, Maine submitted licenses for Champion International, Boise Cascade, and International Paper to EPA as a SIP revision. These facilities are all pulp and paper mills. These licenses include conditions which re-state some of the Chapter 134 Option D requirements. The licenses also address VOC emissions from operations that are not addressed in Option D, such as the mechanical pulping operations which occur at Boise Cascade, Champion International, and International Paper.

In addition to the pulp and paper licenses, Maine also submitted a license for Pioneer Plastics on July 1, 1997. Pioneer Plastics manufactures specialty resins and produces a decorative laminate used for counter tops and furniture. Generally, Pioneer's license requires emissions from certain reactors to be vented to an incinerator and emissions from other reactors to be vented to a vapor condenser. Also, on November 14, 1997 and December 10, 1997, Maine submitted licenses for Prime Tanning and Dexter Shoe. Prime Tanning is a leather finishing facility. Prime Tanning's license includes provisions which impose work practice and equipment standards, as well as VOC coating emission limitations, on the facility. Dexter Shoe is a shoe manufacturing facility. The majority of Dexter's VOC emissions are generated through the use of solvent based primers and adhesives. The use of low VOC products and the implementation of certain work practice and equipment standards were determined to represent RACT for Dexter. Furthermore, a license for Nissen Bakeries was submitted to EPA as a SIP revision on October 9, 1997. The majority of VOC emissions at this facility resulted from the baking of yeast-leavened bread. The license issued to Nissen Bakeries requires that the facility cease production of yeast leavened bread by May 15, 1999.

EPA has evaluated the licenses submitted for all of the facilities listed above and has found that these licenses are consistent with EPA guidance. The specific requirements imposed on each facility and EPA's evaluation of these requirements are detailed in the TSD. Copies of this document are available, upon request, from the EPA Regional Office listed in the ADDRESSES section of this document.

EPA is publishing this action without prior proposal because the Agency anticipates no adverse comments on this rulemaking. However, in a separate document in this Federal Register publication, EPA is proposing to approve the SIP revision should adverse or critical comments be filed. This action will be effective June 19, 2000 unless adverse or critical comments are received by May 18, 2000.

If the EPA receives such comments, this action will be withdrawn before the effective date by publishing a subsequent document that will withdraw the final action. All public comments received will then be addressed in a subsequent final rule based on the proposed rule. The EPA will not institute a second comment period on this action. Any parties interested in commenting on this action should do so at this time. If no such comments are received, the public is advised that this action will be effective on June 19, 2000.

Final Action

EPA is issuing a full approval of Maine's Chapter 134 “Reasonably Available Control Technology for Facilities that Emit Volatile Organic Compounds” as meeting the CAA sections 182(b)(2)(C) and 184(b) non-CTG VOC RACT requirements for York, Sagadahoc, Cumberland, Androscoggin, Kennebec, Knox, Lincoln, Hancock, Waldo, Aroostook, Franklin, Oxford, and Piscataquis Counties. EPA is also issuing a limited approval of Maine's Chapter 134 for Washington, Somerset, and Penobscot Counties.

In addition, EPA is approving licenses for the following facilities and incorporating them into the Maine SIP: SD Warren Paper Company (Westbrook and Skowhegan), Lincoln Pulp and Paper, James River, International Paper, Georgia Pacific, Pioneer Plastics, Champion International, Nissen Bakeries, Prime Tanning, Dexter Shoe, Portsmouth Naval Shipyard, and Boise Cascade.

Furthermore, EPA is also approving Maine's negative declaration for the SOCMI Distillation and Reactor Processes CTG categories as meeting the CAA VOC RACT requirements for these source categories.

Nothing in this action should be construed as permitting or allowing or establishing a precedent for any future request for revision to any State Implementation Plan. Each request for revision to the State Implementation Plan shall be considered separately in light of specific technical, economic, and environmental factors and in relation to relevant statutory and regulatory requirements.

Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 19, 2000. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).) Interested parties should comment in response to the proposed rule rather than petition for judicial review, unless the objection arises after the comment period allowed for in the proposal.

List of Subjects in 40 CFR Part 52

Environmental protection, Air pollution control, Hydrocarbons, Incorporation by reference, Ozone, Reporting and recordkeeping requirements.

Note: Incorporation by reference of the State Implementation Plan for the State of Maine was approved by the Director of the Federal Register on July 1, 1982.

Dated: March 24, 2000.
Mindy S. Lubber,
Regional Administrator, EPA New England.

Part 52 of chapter I, title 40 of the Code of Federal Regulations is amended as follows:

PART 52—[AMENDED]

1. The authority citation for part 52 continues to read as follows:

Authority: 42 U.S.C. 7401 et seq.

Subpart U—Maine

2. Section 52.1020 is amended by adding paragraph (c)(45) to read as follows:

§ 52.1020 Identification of plan.

* * * * *

(c) * * *

(45) Revisions to the State Implementation Plan submitted by the Maine Department of Environmental Protection on April 28, 1995, January 10, 1996, July 1, 1997, October 9, 1997, November 14, 1997, and December 10, 1997.

(i) Incorporation by reference.

(A) Chapter 134 of the Maine Department of Environmental Protection regulations entitled “Reasonably Available Control Technology for Facilities that Emit Volatile Organic Compounds,” effective in the State of Maine on February 15, 1995, is granted a full approval for the following counties: York, Sagadahoc, Cumberland, Androscoggin, Kennebec, Knox, Lincoln, Hancock, Waldo, Aroostook, Franklin, Oxford, and Piscataquis. This rule is granted a limited approval for Washington, Somerset, and Penobscot Counties.

(B) License Amendment #5 issued by the Maine Department of Environmental Protection to Prime Tanning Company on July 23, 1997.

(C) License Amendment #6 issued by the Maine Department of Environmental Protection to Prime Tanning Company on October 27, 1997.

(D) License issued by the Maine Department of Environmental Protection to JJ Nissen Baking Company on February 25, 1997.

(E) License Amendment #4 issued by the Maine Department of Environmental Protection to Portsmouth Naval Shipyard on July 25, 1997.

(F) License issued by the Maine Department of Environmental Protection to Dexter Shoe Company on December 5, 1996.

(G) License Amendment #1 issued by the Maine Department of Environmental Protection to Dexter Shoe Company on October 20, 1997.

(H) License Amendment #3 issued by the Maine Department of Environmental Protection to Pioneer Plastics Corporation on June 16, 1997.

(I) License Amendment #10 issued by the Maine Department of Environmental Protection to Georgia Pacific Corporation on January 4, 1996.

(J) License Amendment #5 issued by the Maine Department of Environmental Protection to Champion International Corporation on January 18, 1996.

(K) License Amendment #8 issued by the Maine Department of Environmental Protection to International Paper Company on October 4, 1995.

(L) License Amendment #9 issued by the Maine Department of Environmental Protection to International Paper Company on December 13, 1995.

(M) License Amendment #6 issued by the Maine Department of Environmental Protection to James River Corporation on December 8, 1995.

(N) License Amendment #8 issued by the Maine Department of Environmental Protection to Lincoln Pulp and Paper Co. on December 18, 1995.

(O) License Amendment #14 issued by the Maine Department of Environmental Protection to S.D. Warren Paper Company's Westbrook, Maine facility on December 18, 1995.

(P) License Amendment #14 issued by the Maine Department of Environmental Protection to S.D. Warren Paper Company's Skowhegan, Maine facility on October 4, 1995.

(Q) License Amendment #15 issued by the Maine Department of Environmental Protection to S.D. Warren Paper Company's Skowhegan, Maine facility on January 9, 1996.

(R) License Amendment #11 issued by the Maine Department of Environmental Protection to Boise Cascade Corporation on December 20, 1995.

(ii) Additional materials

(A) Letter from the Maine Department of Environmental Protection dated November 15, 1994 stating a negative declaration for the Synthetic Organic Chemical Manufacturing Industry Distillation and Reactors Control Technique Guideline categories.

(B) Nonregulatory portions of the submittal.

3. In § 52.1031, Table 52.1031 is amended by adding new state citations for Chapter 134 to read as follows:

§ 52.1031 EPA-approved Maine Regulations

* * * * *

Table 52.1031—EPA-Approved Rules and Regulations
State citation | Title/Subject | Date adopted by State | Date approved by EPA | Federal Register citation | 52.1020 |
* * * * * * *
134 | Reasonably Available Control Technology for Facilities that Emit Volatile Organic Compounds | 2/8/95 | 4/18/00 | [Insert FR citation from published date] | (c)(45) | Regulation fully approved for the following counties: York, Sagadahoc, Cumberland, Androscoggin, Kennebec, Knox, Lincoln, Hancock, Waldo, Aroostook, Franklin, Oxford, and Piscataquis. Regulation granted a limited approval for Washington, Somerset, and Penobscot Counties.
134 | Reasonably Available Control Technology for Facilities that Emit Volatile Organic Compounds | 2/25/97 | 4/18/00 | [Insert FR citation from published date] | (c)(45) | VOC RACT determination for JJ Nissen Baking Company.
134 | Reasonably Available Control Technology for Facilities that Emit Volatile Organic Compounds | 7/23/97 10/27/97 | 4/18/00 | [Insert FR citation from published date] | (c)(45) | VOC RACT determination for Prime Tanning.
134 | Reasonably Available Control Technology for Facilities that Emit Volatile Organic Compounds | 7/25/97 | 4/18/00 | [Insert FR citation from published date] | (c)(45) | VOC RACT determination for Portsmouth Naval Shipyard.
134 | Reasonably Available Control Technology for Facilities that Emit Volatile Organic Compounds | 12/5/96 10/20/97 | 4/18/00 | [Insert FR citation from published date] | (c)(45) | VOC RACT determination for Dexter Shoe.
134 | Reasonably Available Control Technology for Facilities that Emit Volatile Organic Compounds | 6/16/97 | 4/18/00 | [Insert FR citation from published date] | (c)(45) | VOC RACT determination for Pioneer Plastics.
134 | Reasonably Available Control Technology for Facilities that Emit Volatile Organic Compounds | 1/4/96 | 4/18/00 | [Insert FR citation from published date] | (c)(45) | VOC RACT determination for Georgia Pacific.
134 | Reasonably Available Control Technology for Facilities that Emit Volatile Organic Compounds | 1/18/96 | 4/18/00 | [Insert FR citation from published date] | (c)(45) | VOC RACT determination for Champion International.
134 | Reasonably Available Control Technology for Facilities that Emit Volatile Organic Compounds | 10/4/95 12/13/95 | 4/18/00 | [Insert FR citation from published date] | (c)(45) | VOC RACT determination for International Paper.
134 | Reasonably Available Control Technology for Facilities that Emit Volatile Organic Compounds | 12/8/95 | 4/18/00 | [Insert FR citation from published date] | (c)(45) | VOC RACT determination for James River.
134 | Reasonably Available Control Technology for Facilities that Emit Volatile Organic Compounds | 12/18/95 | 4/18/00 | [Insert FR citation from published date] | (c)(45) | VOC RACT determination for Lincoln Pulp and Paper.
134 | Reasonably Available Control Technology for Facilities that Emit Volatile Organic Compounds | 12/18/95 | 4/18/00 | [Insert FR citation from published date] | (c)(45) | VOC RACT determination for SD Warren Paper Company's Westbrook, Maine facility.
134 | Reasonably Available Control Technology for Facilities that Emit Volatile Organic Compounds | 10/4/95 1/9/96 | 4/18/00 | [Insert FR citation from published date] | (c)(45) | VOC RACT determination for SD Warren Paper Company's Skowhegan, Maine facility.
134 | Reasonably Available Control Technology for Facilities that Emit Volatile Organic Compounds | 12/20/95 | 4/18/00 | [Insert FR citation from published date] | (c)(45) | VOC RACT determination for Boise Cascade.
* * * * * * *

[FR Doc. 00-9537 Filed 4-17-00; 8:45 am]

BILLING CODE 6560-50-P